DEPARTMENT OF AGRICULTURE

Forest Service

Intergovernmental Advisory Committee Meeting

AGENCY: Forest Service, USDA.

ACTION: Notice of Meeting.

SUMMARY: The Intergovernmental Advisory Committee (IAC) will meet on November 2, 2000, at the Hilton Hotel, 921 SW 6th Avenue, Portland, Oregon 97204-1296. The purpose of the meeting is to continue discussions on the implementation of the Northwest Forest Plan (NFP). The meeting will begin at 9:30 a.m. and continue until 3:30 p.m. Agenda items to be discussed include, but are not limited to: orientation for new IAC members, the status of the Survey and Manage Final Supplemental Environmental Impact Statement, and progress reports on ongoing NFP-related implementation issues.

The IAC meeting will be open to the public and is fully accessible for people with disabilities, Interpreters are available upon request in advance. Written comments may be submitted for the record at the meeting. Time will also be scheduled for oral public comments. Interested persons are encourage to attend.

FOR FURTHER INFORMATION CONTACT: Questions regarding this meeting may be directed to Steve Odell, Executive Director, Regional Ecosystem Office, 333 SW 1st Avenue, P.O. Box 3623, Portland, OR 97208 (Phone: 503-808-2166).

Dated: October 16, 2000.
Stephen J. Odell,
Designated Federal Official.

[FR Doc. 00-27115 Filed 10-20-00; 8:45 am]

BILLING CODE 3410-11-M